NATIONAL CREDIT UNION ADMINISTRATION

Sunshine Act; Meeting; Notice of a Matter To Be Added to the Agenda for Consideration at an Agency Meeting

TIME AND DATE: 2 p.m., Thursday, May 4, 2011.

PLACE: Board Room, 7th Floor, Room 7047, 1775 Duke Street, Alexandria, VA 22314-3428.

STATUS: Closed.

MATTERS TO BE ADDED: 2. Consideration of Supervisory Activity. Closed pursuant to exemptions (8), (9)(A)(ii) and 9(B).

FOR FURTHER INFORMATION CONTACT: Mary Rupp, Secretary of the Board, Telephone: 703-518-6304.

Mary Rupp,
Board Secretary.

[FR Doc. 2011-10848 Filed 4-29-11; 11:15 am]

BILLING CODE 7535-01-P